DEPARTMENT OF HOMELAND SECURITY

[Docket No. DHS-2022-0038]

Homeland Security Advisory Council

AGENCY: The Office of Partnership and Engagement (OPE), Department of Homeland Security (DHS).

ACTION: Notice of open Federal advisory committee meeting.

SUMMARY: The Homeland Security Advisory Council (HSAC) will meet virtually on Wednesday, August 3, 2022. The meeting will be open to the public.

DATES: The meeting will take place from 3 to 4 p.m. ET on Wednesday, August 3, 2022. Please note that the meeting may end early if the Council has completed its business.

ADDRESSES: The HSAC meeting will be held via teleconference. Members of the public interested in participating may do so by following the process outlined below. The public will be in listen-only mode except for the public comment portion of the meeting. Written comments can be submitted from July 19, 2022 to August 1, 2022. Comments must be identified by Docket No. DHS-2022-0038 and may be submitted by one of the following methods:

• Federal eRulemaking Portal: https://www.regulations.gov. Follow the instructions for submitting comments.

• Email: HSAC@hq.dhs.gov. Include Docket No. DHS-2022-0038 in the subject line of the message.

• Mail: Michael J. Miron, Deputy Executive Director of the Homeland Security Advisory Council, Office of Partnership and Engagement, Mailstop 0385, Department of Homeland Security, 2707 Martin Luther King Jr Ave. SE, Washington, DC 20528.

Instructions: All submissions received must include the words “Department of Homeland Security” and “DHS-2022-0038,” the docket number for this action. Comments received will be posted without alteration at https://www.regulations.gov, including any personal information provided. You may wish to review the Privacy and Security Notice found via a link on the homepage of www.regulations.gov

Docket: For access to the docket to read comments received by the Council, go to https://www.regulations.gov, search “DHS-2022-0038,” “Open Docket Folder” to view the comments.

FOR FURTHER INFORMATION CONTACT: Michael Miron at 202-891-2876 or HSAC@hq.dhs.gov.

SUPPLEMENTARY INFORMATION: Notice of this meeting is given under Section 10(a) of the Federal Advisory Committee Act (FACA), Public Law 92-463 (5 U.S.C. Appendix), which requires each FACA committee meeting to be open to the public unless the President, or the head of the agency to which the advisory committee reports, determines that a portion of the meeting may be closed to the public in accordance with 5 U.S.C. 552b(c).

The HSAC provides organizationally independent, strategic, timely, specific, actionable advice, and recommendations to the Secretary of Homeland Security on matters related to homeland security. The Council consists of senior executives from government, the private sector, academia, law enforcement, and non-governmental organizations.

The agenda for the meeting is as follows: The Council will receive the final draft report from the Disinformation Best Practices and Safeguards Subcommittee leadership. Following the presentation of the final draft report, there will be a break for members of the public who wish to provide comment. Members of the public will be in listen-only mode except during the public comment session. Members of the public may register to participate in this Council teleconference via the following procedures. Each individual must provide their full legal name and email address no later than 5 p.m. ET on Monday, August 1, 2022 to Michael J. Miron of the Council via email to HSAC@hq.dhs.gov or via phone at 202-891-2876. Members of the public who have registered to participate will be provided the conference call details after the closing of the public registration period and prior to the start of the meeting.

For information on services for individuals with disabilities, or to request special assistance, please email HSAC@hq.dhs.gov by 5 p.m. ET on August 1, 2022 or call 202-891-2876. The HSAC is committed to ensuring all participants have equal access regardless of disability status. If you require a reasonable accommodation due to a disability to fully participate, please contact Michael J. Miron at 202-891-2876 or HSAC@hq.dhs.gov as soon as possible.

Dated: July 13, 2022.
Michael J. Miron,
Deputy Executive Director, Homeland Security Advisory Council, Department of Homeland Security.

[FR Doc. 2022-15290 Filed 7-18-22; 8:45 am]

BILLING CODE 9112-FN-P